DEPARTMENT OF THE TREASURY

Internal Revenue Service

26 CFR Part 1

[TD 8940]

RIN 1545-AY73

Purchase Price Allocation In Deemed and Actual Asset Acquisitions; Correction

AGENCY: Internal Revenue Service (IRS), Treasury.

ACTION: Correction to final regulations.

SUMMARY: This document contains a correction to final regulations relating to deemed and actual asset acquisitions under sections 338 and 1060. The final regulations that were published in the Federal Register on Tuesday, February 13, 2001 (66 FR 9925).

DATES: This correction is effective March 16, 2001.

FOR FURTHER INFORMATION CONTACT: Richard Starke (202) 622-7790 (not a toll-free number).

SUPPLEMENTARY INFORMATION:

Background

The final regulations that are the subject of these corrections are under sections 338 and1060 of the Internal Revenue Code.

Need for Correction

As published, the final regulations contain an error that may prove to be misleading and is in need of clarification.

Correction of Publication

Accordingly, the publication of the final regulations (TD 8940), that were the subject of FR Doc. 01-981 is corrected as follows:

1. On page 9929, in the table, the entry for § 1.197-2(k), Example 23 is corrected to read as follows:

Section | Remove | Add
* * * * * * *
1.197-2(k), Example 23, paragraph (iv), first sentence | (as these terms are defined in § 1.338-1(c)(13)) | (as these terms are defined in § 1.338&ndas-2(c)(17))
* * * * * * *

§ 1.338-3 [Corrected]

2. On page 9935, column 3, § 1.338-3, paragraph (b)(3)(iv), paragraph (ii) of Example 1., line 9 from the bottom of the paragraph, the language “338(h)(3)(A)(iii). See § 1.338-2(b)(3)(ii)(C).” is corrected to read “338(h)(3)(A)(iii). See § 1.338-3(b)(3)(ii)(C).”.

§ 1.338-6 [Corrected]

3. On page 9944, column 3, § 1.338-6, paragraph (d), paragraph (ix) of Example 1 line 1, the language “The liabilities of T as of the beginning” is corrected to read “ The liabilities of T1 as of the beginning”.

Cynthia E. Grigsby,
Chief, Regulations Unit, Office of Special Counsel (Modernization and Strategic Planning).

[FR Doc. 01-7934 Filed 3-29-01; 8:45 am]

BILLING CODE 4830-01-P